DEPARTMENT OF HEALTH AND HUMAN SERVICES

National Institutes of Health

Center for Scientific Review; Amended Notice of Meeting

Notice is hereby given of a change in the meeting of the Integrative and Clinical Endocrinology and Reproduction Study Section, September 26, 2007, 8 a.m. to September 27, 2007, 4 p.m., Bethesda Marriott, 5151 Pooks Hill Road, Bethesda, MD 20814 which was published in the Federal Register on August 10, 2007, 72 FR 45057-45058.

The meeting will be held one day only September 26, 2007, from 8 a.m. to 6 p.m. The meeting location remains the same. The meeting is closed to the public.

Dated: September 12, 2007.
Jennifer Spaeth,
Director, Office of Federal Advisory Committee Policy.

[FR Doc. 07-4628 Filed 9-18-07; 8:45 am]

BILLING CODE 4140-01-M